DEPARTMENT OF AGRICULTURE

Commodity Credit Corporation

7 CFR Part 1496

Procurement of Commodities for Foreign Donation; Public Meeting

AGENCY: Commodity Credit Corporation, USDA.

ACTION: Proposed rule; notice of a public meeting.

SUMMARY: The Department of Agriculture (USDA) will conduct a public meeting to discuss the proposed rule, Procurement of Commodities for Foreign Donation, published in the Federal Register on December 16, 2005 (70 FR 74717).

DATES: The meeting is scheduled for February 21, 2006, from 1 p.m. to 3 p.m.

ADDRESSES: The meeting will be held in Washington, DC in USDA's Jamie L. Whitten Building, Room 107A, 1400 Independence Avenue, SW., Washington, DC 20250. The Jamie L. Whitten Building is located near the Smithsonian Metro Station. Requests to address the meeting must be submitted by February 15, 2006 by any of the following methods:

E-mail: paul.cacciatore@kcc.usda.gov.

Fax: (202) 690-0767.

Mail: Send to Director, Commodity Procurement Policy and Analysis Division (CPPAD), FSA, USDA, Room 5755-S, Stop 0551, 1400 Independence Avenue, SW., Washington, DC 20250-0551.

FOR FURTHER INFORMATION CONTACT: Paul Cacciatore, USDA, FSA, 1400 Independence Avenue, SW., Stop 0551, Washington, DC 20250-0551; Telephone: 202-720-5074, Fax: 202-690-0767; E-mail: paul.cacciatore@kcc.usda.gov. Persons with disabilities who require special accommodations to attend or participate in the meeting should contact Paul Cacciatore by February 15, 2006.

SUPPLEMENTARY INFORMATION:

I. Background

On December 16, 2005, the Commodity Credit Corporation (CCC) published a proposed rule, Procurement of Commodities for Foreign Donation, in the Federal Register (70 FR 74717). The proposed rule would adopt new procedures to be used by CCC in the evaluation of bids in connection with the procurement of commodities for donation overseas. In general, CCC proposes to amend the existing regulations to provide for the simultaneous review of commodity and ocean freight offers when evaluating lowest landed cost options in connection with the procurement of commodities. This proposed rule would enhance bidding opportunities for potential vendors while allowing CCC to more efficiently acquire commodities.

Comments on the proposed rule were due on or before January 17, 2006. In response to public requests, CCC reopened and extended the comment period for 45 days until March 9, 2006, via a document published in the Federal Register January 23, 2006 (71 FR 3442). The Agency believes the request for additional time to comment on the proposed rule is reasonable and will allow the rulemaking to proceed in a timely manner. Further, CCC has determined that a public meeting should be held to provide for open discussion on the proposed rule.

II. Registration

To register, contact the Public Meeting Coordinator by e-mail at paul.cacciatore@kcc.usda.gov, by phone at (202) 720-5074, or by fax at (202) 690-0767. The following information must be provided when registering to attend the meeting: Name, company name and address, telephone and fax numbers, e-mail addresses and special needs information. A staff member will confirm your registration by e-mail, fax or phone. You may also register in person at the meeting.

III. Speaker Presentations

Persons who wish to address the meeting must register using the registration procedures described above. At the time of registration, those wishing to address the meeting, must provide a brief, written statement regarding the nature of the information they intend to present.

Those attendees who wish to address the meeting but did not pre-register, will be permitted to sign up at the meeting, on a first-come, first-served basis. Based on the number of items on the agenda and the progress of the meeting, a determination will be made at the meeting by the Public Meeting Coordinator and the meeting moderator regarding how many speakers can be accommodated. Speakers will be limited to approximately five minutes and must provide their name, company name and address, contact information as well as provide a brief, written statement regarding the nature of the information they intend to present.

The meeting will be transcribed and the transcription, together with any written submissions, made part of the rule-making record.

IV. Written Comments on the Proposed Rule

Written comments on the proposed rule may be submitted at the meeting or, by March 9, 2006, by the following methods:

E-mail: Send comments to Richard.Chavez@usda.gov.

Fax: Submit comments by facsimile transmission to: (202) 690-2221.

Mail: Send comments to: Director, Commodity Procurement Policy & Analysis Division, Farm Service Agency, United States Department of Agriculture (USDA), Rm. 5755-S, 1400 Independence Avenue, SW., Washington, DC 20250-0512.

Hand Delivery or Courier: Deliver comments to above address.

Federal Rulemaking Portal: Go to http//www.regulations.gov Follow the online instructions for submitting comments.

V. General Information

The meeting will be held in a Federal government building. Therefore, Federal security measures will be in force. In planning your arrival, we recommend allowing extra time to clear security. The main entrance to the USDA building will be at the North entrance on Jefferson Drive. In order to enter the building, participants must bring government-issued photo identification. Entry may be denied to persons without proper identification.

In addition, all persons entering the building must pass through a metal detector. All items brought to the meeting, whether personal or for the purposes of demonstration or support of a presentation, are subject to inspection. We cannot assume responsibility for coordinating the receipt, transfer, transport, storage, set-up, safety, or timely arrival of any personal belongings or items used for demonstration or support of a presentation.

Signed at Washington, DC, February 1, 2006.
Teresa C. Lasseter,
Administrator, Farm Service Agency, and Executive Vice-President, Commodity Credit Corporation.

[FR Doc. 06-1193 Filed 2-6-06; 8:56 am]

BILLING CODE 3410-05-P